DEPARTMENT OF HOUSING AND URBAN DEVELOPMENT

24 CFR Part 966

[Docket No. FR-4495-F-02]

RIN 2501-AC63

Screening and Eviction for Drug Abuse and Other Criminal Activity

Correction

In rule document 01-12840, beginning on page 28776 in the issue of Thursday, May 24, 2001 make the following correction:

§966.4 [Corrected]

On page 28802, in the third column, in the fourth line from the bottom, “(1)***” should read “(l)*** ”.

[FR Doc. C1-12840 Filed 6-15-01; 8:45 am]

BILLING CODE 1505-01-D

DEPARTMENT OF THE TREASURY

Customs Service

Announcement of a National Customs Automation Program Test; The International Trade Data System (ITDS)

Correction

In notice document 01-14061 beginning on page 30265 in the issue of Tuesday, June 5, 2001, make the following corrections:

1. On page 30268, in the first column, in the first paragraph, in the last line, insert “www.nmfta.org” at the end of the sentence “Further information and an application form are available at”.

2. On the same page, in the same column, in the second paragraph, in the fifth line, insert “www.dnb.com” at the end of the sentence “In order to obtain one, ITDS participants may call 800-333-0505 or go to”.

3. On page 30271, in the first column, the document number in the file line “01-14601” should read “01-14061”.

[FR Doc. C1-14061 Filed 6-15-01; 8:45 am]

BILLING CODE 1505-01-D